ENVIRONMENTAL PROTECTION AGENCY

40 CFR Part 9

[OPPTS-00310; FRL-6771-7]

OMB Approvals Under the Paperwork Reduction Act; Technical Amendment

AGENCY: Environmental Protection Agency (EPA).

ACTION: Final rule.

SUMMARY: This document updates EPA's table of OMB control numbers. These OMB control numbers are issued by the Office of Management Budget (OMB) under the Paperwork Reduction Act (PRA) for regulations containing information collection requirements. This technical amendment adds new approvals published in the Federal Register since July 1, 2000, removes expired and terminated approvals.

DATES: This rule is effective June 29, 2001.

FOR FURTHER INFORMATION CONTACT: For general information contact: Barbara Cunningham, Director, Environmental Assistance Division, Office of Pollution Prevention and Toxics (7408), Environmental Protection Agency, 1200 Pennsylvania Ave., NW., Washington, DC 20460; telephone number: (202) 554-1404; e-mail address: TSCA-Hotline@epa.gov.

For technical information contact: Patricia Johnson, Regulatory Coordination Staff (7101), Office of Prevention, Pesticides and Toxic Substances, Environmental Protection Agency, 1200 Pennsylvania Ave., NW., Washington, DC 20460; telephone number: (202) 260-2893; e-mail address: johnson.patriciaa@epa.gov.

SUPPLEMENTARY INFORMATION:

I. General Information

A. Does this Action Apply to Me?

This action is directed to the public in general. This action may, however, be of interest to those persons who are concerned about OMB approval for information collections required by EPA regulations. Since other entities may also be interested, the Agency has not attempted to describe all the specific entities that may be affected by this action. If you have any questions regarding the applicability of this action to a particular entity, consult the technical person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. A frequently updated electronic version of 40 CFR part 9 is available at http://www.access.gpo.gov/nara/cfr/cfrhtml_00/Title_40/40cfr9_00.html, a beta site currently under development.

II. Background

A. Why is this Technical Amendment Being Issued?

This document updates the OMB control numbers listed in 40 CFR part 9 for various actions published in the Federal Register since July 1, 2000, and issued under the Toxic Substances Control Act (TSCA) (15 U.S.C. 2601) and the Federal Insecticide, Fungicide, and Rodenticide Act (FIFRA) (7 U.S.C. 136 et seq.). EPA will continue to present OMB control numbers in a consolidated table format in 40 CFR part 9 of the Agency's regulations. The table lists Code of Federal Regulations (CFR) citations with reporting, recordkeeping, or other information collection requirements that require OMB approval under the PRA (44 U.S.C. 3501 et seq.), and the current OMB control numbers. This listing of the OMB control numbers and their subsequent codification in the CFR satisfies the requirements of the PRA and OMB's implementing regulations at 5 CFR part 1320.

B. Why is this Technical Amendment Issued as a Final Rule?

Under PRA, the information collection requirements included in this document were previously subject to public notice and comment prior to OMB approval, either as part of the OMB approval process or as part of a rulemaking. Therefore, EPA finds that publication of a proposed rule is unnecessary and would waste public tax dollars. This technical amendment is effective upon publication under the “good cause” clause found in section 553(b)(3)(B) of the Administrative Procedure Act (APA) (5 U.S.C. 553(b)(3)(B)) which allows a regulatory action to become final without prior notice and comment.

III. Regulatory Assessment Requirements

Because this action is not economically significant as defined by section 3(f) of Executive Order 12866, this action is not subject to Executive Order 13045, entitled Protection of Children from Environmental Health Risks and Safety Risks (62 FR 19885, April 23, 1997).

This action will not result in environmental justice related issues and does not therefore, require special consideration under Executive Order 12898, entitled Federal Actions to Address Environmental Justice in Minority Populations and Low-Income Populations (59 FR 7629, February 16, 1994).

Since the Agency has made a “good cause” finding that this action is not subject to notice-and-comment requirements under the APA or any other statute (see Unit II.B.), this action is not subject to the regulatory flexibility provisions of the Regulatory Flexibility Act (RFA) (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule will not have substantial direct effects on the States, on the relationship between the national government and the States, or on the distribution of power and responsibilities among the various levels of government, as specified in Executive Order 13132, entitled Federalism (64 FR 43255, August 10, 1999). Similarly, this rule will not have substantial direct effects on tribal governments, on the relationship between the Federal government and Indian tribes, or on the distribution of power and responsibilities between the Federal government and Indian tribes, as specified in Executive Order 13175, entitled Consultation and Coordination with Indian Tribal Governments (65 FR 67249, November 6, 2000).

This action does not involve any technical standards that require the Agency's consideration of voluntary consensus standards pursuant to section 12(d) of the National Technology Transfer and Advancement Act of 1995 (NTTAA), Public Law 104-113, section 12(d) (15 U.S.C. 272 note).

This rule does not contain any information collection requirements that require review and approval by OMB pursuant to the PRA. The collection activities associated with the OMB control numbers contained in this document have already been approved by OMB.

In issuing this rule, EPA has taken the necessary steps to eliminate drafting errors and ambiguity, minimize potential litigation, and provide a clear legal standard for affected conduct, as required by section 3 of Executive Order 12988, entitled Civil Justice Reform (61 FR 4729, February 7, 1996).

As a technical amendment to the CFR, the requirements of Executive Order 12630, entitled Governmental Actions and Interference with Constitutionally Protected Property Rights (53 FR 8859, March 15, 1988), which requires an agency to examine the takings implications of a rule in accordance with the “Attorney General's Supplemental Guidelines for the Evaluation of Risk and Avoidance of Unanticipated Takings” issued under the Executive Order, does not apply to this action.

This rule is not subject to Executive Order 13211, entitled Actions Concerning Regulations That Significantly Affect Energy Supply, Distribution, or Use (66 FR 28355, May 22, 2001), because this action is not a significant regulatory action under Executive Order 12866.

IV. Submission to Congress and the Comptroller General

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. CRA section 808 allows the issuing agency to make a rule effective sooner than otherwise provided by the CRA if the agency makes a good cause finding that notice and public procedure is impracticable, unnecessary or contrary to the public interest. This determination must be supported by a brief statement (5 U.S.C. 808(2)). As stated previously, EPA has made such a good cause finding, including the reasons therefore, and established an effective date of June 29, 2001. EPA will submit a report containing this rule and other required information to the U.S. Senate, the U.S. House of Representatives, and the Comptroller General of the United States prior to publication of this rule in the Federal Register. This rule is not a “major rule” as defined by 5 U.S.C. 804(2).

List of Subjects in 40 CFR Part 9

Environmental protection, Reporting and recordkeeping requirements.

Dated: June 26, 2001.
Susan B. Hazen,
Acting Assistant Administrator for Prevention, Pesticides and Toxic Substances.

Therefore, 40 CFR chapter I is amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, the table is amended by adding the entry listed below under the heading indicated.

§ 9.1 OMB approvals under the Paperwork Reduction Act.

* * * * *

40 CFR citation | OMB control No.
* * * * * * *
Significant New Uses of Chemical Substances
* * * * * * *
721.303 | 2070-0012
* * * * * | 721.333 | 2070-0012
* * * * * | 721.480 | 2070-0012
* * * * * | 721.545 | 2070-0012
* * * * * | 721.632 | 2070-0012 | 721.633 | 2070-0012
* * * * * | 721.1085 | 2070-0012
* * * * * | 721.2121 | 2070-0012
* * * * * | 721.2265 | 2070-0012
* * * * * | 721.3710 | 2070-0012
* * * * * | 721.3810 | 2070-0012
* * * * * | 721.3820 | 2070-0012 | 721.3821 | 2070-0012 | 721.3830 | 2070-0012
* * * * * | 721.3850 | 2070-0012
* * * * * | 721.4365 | 2070-0012
* * * * * | 721.4461 | 2070-0012
* * * * * | 721.4565 | 2070-0012
* * * * * | 721.4610 | 2070-0012
* * * * * | 721.5284 | 2070-0012
* * * * * | 721.5378 | 2070-0012
* * * * * | 721.5585 | 2070-0012
* * * * * | 721.5912 | 2070-0012
* * * * * | 721.5914 | 2070-0012
* * * * * | 721.5985 | 2070-0012
* * * * * | 721.6180 | 2070-0012
* * * * * | 721.6196 | 2070-0012
* * * * * | 721.6479 | 2070-0012
* * * * * | 721.6493 | 2070-0012
* * * * * | 721.6515 | 2070-0012
* * * * * | 721.8657 | 2070-0012
* * * * * | 721.9484 | 2070-0012 | 721.9485 | 2070-0012 | 721.9486 | 2070-0012 | 721.9487 | 2070-0012
* * * * * | 721.9514 | 2070-0012
* * * * * | 721.9535 | 2070-0012
* * * * * | 721.9670 | 2070-0012 | 721.9671 | 2070-0012
* * * * *

* * * * *

[FR Doc. 01-16457 Filed 6-28-01; 8:45 am]

BILLING CODE 6560-50-S